DEPARTMENT OF COMMERCE

National Oceanic and Atmospheric Administration

50 CFR Part 600

[I.D. 021501A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue an EFP that would allow one vessel to conduct fishing operations otherwise restricted by the regulations governing the fisheries of the Northeastern United States. The Haskin Shellfish Research Laboratory submitted a complete application for the issuance of an EFP to one commercial fishing vessel. The EFP would allow one federally permitted vessel to conduct side-by-side tows with the R/V Albatross using a 6-cm codend mesh. No species will be targeted by the study, since the vessel will be following the random survey protocol used by the R/V Albatross. However, the nets will be fished to maximize the catch of summer flounder, scup and black sea bass on Leg I, and silver hake on Leg II. The purpose of this study is to provide information on the relative catchability of the two platforms and gears fished during the NMFS Spring Trawl Survey. Regulations under the Magnuson-Stevens Fishery Conservation and Management Act require publication of this notification to provide interested parties the opportunity to comment on applications for proposed EFPs.

DATES: Comments on this notice must be received at the appropriate address or fax number (see ADDRESSES) on or before March 14, 2001.

ADDRESSES: Written comments should be sent to Patricia Kurkul, Regional Administrator, NMFS, Northeast Regional Office, 1 Blackburn Drive, Gloucester, MA 01930. Mark the outside of the envelope “Comments on EFP Proposal.” Comments may also be sent via facsimile (fax) to (978) 281-9135. Comments will not be accepted if submitted via e-mail or Internet.

FOR FURTHER INFORMATION CONTACT: Allison Ferreira, Fishery Management Specialist, 978-281-9103.

SUPPLEMENTARY INFORMATION: The Haskin Shellfish Research Laboratory submitted an industry cooperative proposal on February 2, 2001, for one EFP to conduct side-by-side tows between the R/V ALBATROSS and a fishing vessel during the NMFS Spring Trawl Survey. The study addresses the concern that the spring survey may not adequately assess the proportion of large fish in the population.

The study will occur on Legs I and II of the NMFS Spring Trawl Survey. Leg I of the spring survey is scheduled to begin on February 26, 2001. The study will take place during the first 4 to 5 days of the cruise when the R/V Albatross will occupy about 34 stations on the outer shelf and the shelf edge from Hudson Canyon to just north of Cape Hatteras. Some of these stations may occur inside the Southern Gear Restricted Area (GRA). Leg II is scheduled to begin on March 15, 2001. On this Leg, the study will take place when the R/V Albatross occupies stations south of Long Island and Massachusetts, on the outer half of the shelf. This part of the study will occupy 19 stations and last about 3 days. Because the spring survey is conducted 24 hours a day, the industry vessel will have a minimum of four science personnel working two 12-hour shifts of two individuals each.

This study involves Haskin Shellfish Research Laboratory, with funding provided by the NFI Scientific Monitoring Committee. The objective of the study is to conduct side-by-side tows between an industry vessel and the R/V Albatross to provide information on the relative catchability of the two platforms and gears fished during the spring survey. The potential outcomes of the study include: (1) An improved assessment of the population size frequency for many commercial species, (2) a boundary condition on the value used as an estimation of catchability in fisheries models, (3) improved estimates of the size-dependency of catchability for the survey gear, (4) improved estimates of spawning stock biomass (SSB) from understanding the bias in catchablity in the survey, (5) an increased number of samples for length-weight and length-at-age studies for key species, and (6) potential groundwork for using industry vessels to increase the number of stations occupied in the survey for those species presently sampled with inadequate intensity.

In order to accomplish the objectives of this study, a trawl with a 6-cm codend mesh will be towed in unison and parallel to the survey trawls being conducted by the R/V Albatross. In areas where there is a large depth gradient, the industry vessel will tow aft of the R/V Albatross. To keep the survey program on schedule, tow times, not tow distances, will remain the same between the two vessels, since it is likely that the towing speed for the R/V Albatross will exceed that of the industry vessel.

Since the primary objective of the study is to improve size frequency information, the project aims to take length measurements of all fish caught using standard observer protocols. However, species will be measured in order of importance (i.e., summer flounder, scup, squid, black sea bass, and whiting), or subsampled by size, if the limited number of crews are unable to measure all fish. Individual weight measurements and samples for aging will not be taken, but NMFS may establish certain target species for which weight measurements and aging samples should be taken. These fish will be segregated and transferred to the R/V Albatross, when appropriate.

Any fish below the minimum size limits or in excess of a quota will not be retained, except for scientific purposes. However, the applicant intends to retain for sale those fish meeting the minimum size and quota requirements. In addition, the applicant wants to land and sell fish caught in excess of any applicable landing limit, although it is believed that landings limits will likely not be exceeded due to the short duration of the tows.

An EFP would be issued to one participating federally permitted vessel to exempt it from minimum mesh-size requirements, GRA restrictions, landing limits, and possession limits. This EFP would also authorize the vessel to land and sell any fish that conform with minimum-size and quota restrictions.

Authority: 16 U.S.C. 1801 et seq.

Dated: February 20, 2001.
Richard W. Surdi,
Acting Director, Office of Sustainable Fisheries, National Marine Fisheries Service.

[FR Doc. 01-4692 Filed 2-26-01; 8:45 am]

BILLING CODE 3510-22-S